MILITARY COMPENSATION AND RETIREMENT MODERNIZATION COMMISSION

Meeting of the Military Compensation and Retirement Modernization Commission

AGENCY: Military Compensation and Retirement Modernization Commission.

ACTION: Notice of Town Hall Meeting.

SUMMARY: The Military Compensation and Retirement Modernization Commission (Commission) was established by National Defense Authorization Act, FY 2013. Pursuant to the Act, the Commission is holding a town hall meeting in order to solicit comments from the general public on the modernization of the military compensation and retirement systems.

DATES: The town hall will be held Thursday, May 22, 2014.

ADDRESSES: The town hall will be held MacDill Air Force Base Theater, Building 41, 2420 Florida Keys Avenue, Tampa, Florida.

FOR FURTHER INFORMATION CONTACT: Christopher Nuneviller, Associate Director, Military Compensation and Retirement Modernization Commission, PO Box 13170, Arlington VA 22209, telephone 703-692-2080, fax 703-697-8330, email christopher.nuneviller@mcrmc.gov.

SUPPLEMENTARY INFORMATION: The Military Compensation and Retirement Modernization Commission (Commission) was established by the National Defense Authorization Act FY 2013, Public Law 112-239, § 671, (amended by National Defense Authorization Act FY 2014, Pub. L. 113-66, § 1095). The Commission will conduct public hearings and town halls across the United States and on select military installations internationally in order to solicit comments on the modernization of the military compensation and retirement systems. The Commission seeks the views of service members, retirees, their beneficiaries and other interested parties regarding pay, retirement, health benefits and quality of life programs of the Uniformed Services. These meetings sites will be accessible to members of the general public including individuals with disabilities.

On the evening of Thursday, May 22, 2014, the Chairman and Commissioners will hear from the public. Attendees will be given an opportunity to address the Chairman and Commissioners and relay to them their experience and comments.

May 22, 2014 Agenda

7:00 p.m. to 9:00 p.m. Town Hall Meeting

Due to the deliberative, nascent and formative nature of the Commission's work, the Commissioners are unable to discuss their thoughts, plans or intentions for specific recommendations that will ultimately be made to the President and Congress.

The public hearings will be transcribed and placed on the Commission's Web site. In addition to public hearings, and due to the essential need for input from the beneficiaries, the Commission is accepting and strongly encourages comments and other submissions on its Web site (www.mcrmc.gov).

Christopher Nuneviller,
Associate Director, Administration and Operations.

[FR Doc. 2014-11207 Filed 5-14-14; 8:45 am]

BILLING CODE;P